DEPARTMENT OF HOMELAND SECURITY

Coast Guard

33 CFR Part 117

[CGD01-05-023]

Drawbridge Operation Regulations: Housatonic River, CT

AGENCY: Coast Guard, DHS.

ACTION: Notice of temporary deviation from regulations.

SUMMARY: The Commander, First Coast Guard District, has issued a temporary deviation from the drawbridge operation regulations for the U.S. 1 Bridge, mile 3.5, across the Housatonic River at Stratford, Connecticut. Under this temporary deviation only one of the two-bascule leafs at the bridge need open for the passage of vessel traffic from April 1, 2005 through May 27, 2005. Two-leaf, full bridge openings, will be provided upon three days advance notice. This temporary deviation is necessary to facilitate rehabilitation repairs at the bridge.

DATES: This deviation is effective from April 1, 2005 through May 27, 2005.

FOR FURTHER INFORMATION CONTACT: Judy Leung-Yee, Project Officer, First Coast Guard District, at (212) 668-7195.

SUPPLEMENTARY INFORMATION: The U.S. 1 Bridge has a vertical clearance in the closed position of 32 feet at mean high water and 37 feet at mean low water. The existing drawbridge operation regulations are listed at 33 CFR 117.207.

The bridge owner, Connecticut Department of Transportation, requested a temporary deviation from the drawbridge operation regulations to facilitate scheduled rehabilitation maintenance at the bridge.

Under this temporary deviation only one of the two-bascule leafs need open for the passage of vessel traffic from April 1, 2005 through May 27, 2005. Two-leaf, full bridge openings, shall be provided after at least a three-day advance notice is given by calling the number posted at the bridge.

This deviation from the operating regulations is authorized under 33 CFR 117.35, and will be performed with all due speed in order to return the bridge to normal operation as soon as possible.

Dated: March 23, 2005.
Gary Kassof,
Bridge Program Manager, First Coast Guard District.

[FR Doc. 05-6309 Filed 3-29-05; 8:45 am]

BILLING CODE 4910-15-P